INTERNATIONAL TRADE COMMISSION

[Investigation No. TPA-105-003]

United States-Mexico-Canada Agreement: Likely Impact on the U.S. Economy and on Specific Industry Sectors

AGENCY: United States International Trade Commission.

ACTION: Change in date for transmittal of Commission report to the President and Congress.

SUMMARY: The Commission has changed the date for transmittal of its report to the President and Congress from no later than 105 days after the President entered into the agreement, to no later than 105 days plus an additional 35 days due to the lapse of appropriation between December 22, 2018 and January 25, 2019.

DATES: February 11, 2019.

FOR FURTHER INFORMATION CONTACT: Project Leader Serge Shikher (202-205-2393 or serge.shikher@usitc.gov) or Co-Project Leader Mihir Torsekar (202-205-3350 or mihir.torsekar@usitc.gov) for information specific to these investigations. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: The Commission published notice of institution of the above referenced investigation in the Federal Register on October 16, 2018 (83 FR 52232, October 16, 2018). In that notice the Commission stated that it would transmit its report to the President and Congress no later than 105 days after the President enters into the agreement. However, due to the lapse in appropriation (December 22, 2018 to January 25, 2019), the Commission will transmit its report to the President and Congress no later than 105 days after the President entered into the agreement plus an additional 35 days. All other dates pertaining to this investigation remain the same as in the notice published in the Federal Register on October 16, 2018.

By order of the Commission.
Issued: February 12, 2019.
Lisa Barton,
Secretary to the Commission.

[FR Doc. 2019-02603 Filed 2-15-19; 8:45 am]

BILLING CODE 7020-02-P